ENVIRONMENTAL PROTECTION AGENCY

40 CFR Parts 63 and 266

[FRL-6721-8]

NESHAPS: Standards for Hazardous Air Pollutants for Hazardous Waste Boilers and Industrial Furnaces; Notice of Data Availability

AGENCY: Environmental Protection Agency.

ACTION: Notice of data availability for future Phase II combustion rulemaking.

SUMMARY: This notice of data availability presents for public comment the data base the Environmental Protection Agency (EPA or Agency) plans to use to propose National Emission Standards for Hazardous Air Pollutants (NESHAPs) for hazardous waste burning boilers, halogen acid furnaces, and sulfuric acid recovery furnaces (our Phase II combustion rulemaking). We are providing this opportunity for comment to ensure that the data base used to establish standards in the Phase II combustion rulemaking is as accurate and complete as possible.

DATES: Comments must be submitted by August 28, 2000.

ADDRESSES: If you wish to comment on this NODA, you must send an original and two copies of the comments referencing Docket Number F-2000-RC2A-FFFFF to: RCRA Information Center (RIC), Office of Solid Waste (5305G), U.S. Environmental Protection Agency Headquarters (EPA HQ), Ariel Rios Building, 1200 Pennsylvania Avenue, NW., Washington, DC 20460-0002; or, (2) if using special delivery, such as overnight express service: RIC, Crystal Gateway One, 1235 Jefferson Davis Highway, First Floor, Arlington, VA 22202. You may also submit comments electronically following the directions in the SUPPLEMENTARY INFORMATION section below.

You may view public comments and supporting materials in the RIC. The RIC is open from 9 am to 4 pm Monday through Friday, excluding Federal holidays. To review docket materials, we recommend that you make an appointment by calling 703-603-9230. You may copy up to 100 pages from any regulatory document at no charge. Additional copies cost $ 0.15 per page. For information on accessing an electronic copy of the data base, see the SUPPLEMENTARY INFORMATION section.

FOR FURTHER INFORMATION CONTACT: For general information, call the RCRA Hotline at 1-800-424-9346 or TDD 1-800-553-7672 (hearing impaired). Callers within the Washington Metropolitan Area must dial 703-412-9810 or TDD 703-412-3323 (hearing impaired). The RCRA Hotline is open Monday'-Friday, 9 am to 6 pm, Eastern Standard Time. For more information on specific aspects of this NODA, contact Mr. H. Scott Rauenzahn at 703-308-8477, rauenzahn.scott@epa.gov, or write him at the Office of Solid Waste, 5302W, U.S. EPA, Ariel Rios Building, 1200 Pennsylvania Avenue, NW., Washington, DC 20460.

SUPPLEMENTARY INFORMATION:

Submittal of Comments

You may submit comments electronically by sending electronic mail through the Internet to: rcra-docket@epamail.epa.gov. You should identify comments in electronic format with the docket number F-2000-RC2A-FFFFF. You must submit all electronic comments as an ASCII (text) file, avoiding the use of special characters or any type of encryption. The official record for this action will be kept in the paper form. Accordingly, we will transfer all comments received electronically into paper form and place them in the official record which will also include all comments submitted directly in writing. The official record is the paper record maintained at the RIC as described above. We may seek clarification of electronic comments that are garbled in transmission or during conversion to paper form.

You should not electronically submit any confidential business information (CBI). You must submit an original and two copies of CBI under separate cover to: RCRA CBI Document Control Officer, Office of Solid Waste (5305W), U.S. EPA, Ariel Rios Building, 1200 Pennsylvania Avenue, NW., Washington, DC 20460.

If you do not submit comments electronically, we are asking prospective commenters to voluntarily submit one additional copy of their comments on labeled personal computer diskettes in ASCII (text) format or a word processing format that can be converted to ASCII (text). It is essential that you specify on the disk label the word processing software and version/edition as well as the commenter's name. This will allow us to convert the comments into one of the word processing formats used by the Agency. Please use mailing envelopes designed to protect the diskettes. We emphasize that submission of diskettes is not mandatory, nor will it result in any advantage or disadvantage to any commenter.

Obtaining the Database Electronically

The data base can be obtained either from the RIC as described above in the Addresses section, or by downloading from the Internet. If you want to download the data base over the Internet, you can do so from our “HWC MACT” web site: http://www.epa.gov/hwcmact/ph2noda1. Please consult the web page for specific instructions on how to download the data base.

Clarification of Comments Requested

In today's NODA we request that owners and operators of hazardous waste burning boilers, halogen acid furnaces, and sulfuric acid recovery furnaces review our data base to ensure that it is as accurate and complete as possible, and to provide corrections and additions in the form of comments to this notice. We request comment only on the accuracy and completeness of the data base at this time. We do not seek nor will we use or respond to comments on how to use the data base to establish MACT standards. Rather, we will publish for comment this subject and all other aspects of the NESHAPS rulemaking in a future notice of proposed rulemaking.

Table of Contents

I. Background

II. Am I Affected by This Document?

III. How Did EPA Obtain These Data?

IV. What Quality Assurance or Quality Control Did EPA Use When Creating the Data Base?

V. What Data and Information are Available and How is the Data Base Organized?

VI. What Data Handling Decisions Did EPA Make and What Are the Data Gaps?

I. Background

This is a notice of data availability and invitation for comment on the data base we will use to support the future Phase II Maximum Achievable Control Technology (MACT) standards for hazardous waste combustors (HWCs). The Phase II HWC MACT rulemaking covers boilers, halogen acid furnaces (HAFs), and sulfuric acid recovery furnaces (burning hazardous waste for energy recovery and not those that are just processing spent sulfuric acid) (SARFs). We expect the MACT standards developed under the Phase II rulemaking will supersede the emission standards for these sources under authority of the Resource Conservation and Recovery Act (RCRA), codified at 40 CFR Part 266, Subpart H. Today's document is the first step in developing technology-based MACT emissions standards for hazardous waste burning boilers, HAFs, and SARFs.

Additionally, we are developing MACT standards for nonhazardous waste burning boilers and process heaters under a separate but parallel rulemaking. We divided the boiler universe into two separate rulemakings, because hazardous waste burning may affect the type and concentration of hazardous air pollutants and because hazardous waste burning boilers are currently subject to specific emission controls under RCRA. For information on the nonhazardous waste boiler rulemaking, you may contact Mr. James A. Eddinger on 919-541-5426.

II. Am I Affected by This Document?

Sources affected by this document include all hazardous waste burning boilers, halogen acid furnaces, and sulfuric acid recovery furnaces (not including those furnaces just processing spent sulfuric acid), as defined in 40 CFR 260.10.

III. How Did EPA Obtain These Data?

We gathered these data from information already submitted by these sources to EPA Regional Offices or State agencies about their most recent RCRA compliance testing, including certifications of compliance (CoC), trial burns, and risk burn testing. In total, we obtained test reports for 115 individual sources. An additional 38 sources are “data in lieu of” sources, i.e., sources for which data from a very similar source was accepted in lieu of performing a compliance test for that specific source. Thus, our current data base represents the most recent compliance test results for 153 individual boilers, HAFs, and SARFs (burning hazardous waste for energy recovery and not those that are just processing spent sulfuric acid) nationwide. With the exception of sources currently operating under the small quantity on-site burner exemption in 40 CFR 266.108, we believe this data base represents nearly all boilers, HAFs and SARFs subject to Part 266, Subpart H.

Boilers, HAFs, and SARFs burning small quantities of hazardous waste are exempt from Part 266, Subpart H, under § 266.108. Consequently, we do not have emissions or facility design and operation data for these sources. These sources are nonetheless potentially affected sources that will be evaluated for MACT emission standards at the same time we are evaluating other affected sources. To assist in the evaluation of these small quantity burners, we request that boiler, HAF, and SARF sources that are currently exempt under § 266.108 provide available information on the items listed in the Appendix to today's notice by the close of the comment period.

IV. What Quality Assurance or Quality Control Did EPA Use When Creating the Data Base?

We took steps to ensure that all pertinent data were accurately extracted from the collected test reports and included in the data base. The data base report, explained in Section V below, contains a detailed description of the quality assurance and quality control steps taken to avoid inaccurate data interpretation and data entry errors. We recognize, however, that mistakes can occur and request that owners and operators review the data for their source(s) and provide any necessary corrections.

V. What Data and Information are Available and How Is the Data Base Organized?

Today's document covers: (1) A data base report; (2) performance data and information files for individual sources; (3) an emissions and feedrate data summary sheet; and (4) a facility description summary sheet. Each of these items is explained below. This information is available both at the RCRA docket and electronically on our web site at www.epa.gov/hwcmact/ph2noda1.

1. Data Base Report

The Phase II HWC MACT Data Base Report discusses the organization of the data base, describes the test report information collected from Regional and state offices, and discusses the quality assurance and quality control plan. This report also describes the type of data and information extracted from the test reports of affected sources.

2. Data and Information File for Individual Sources

Each individual source with test data has a separate file containing performance data and operation information. The data base contains all available stack gas emissions data (including data on metals, chlorine, particulate matter, dioxins and furans, carbon monoxide, and hydrocarbons), process operating data (including hazardous waste and auxiliary fuel compositions and feedrates), and facility equipment design and operational data (including combustor and air pollution control device temperatures, pressures, etc.).

These individual source files are provided on the internet in two electronic file formats: Portable Document Format (PDF) and spreadsheet. PDF files can be viewed and printed using the free software program Adobe Acrobat. One limitation of PDF is that you are unable to see the formulas we used to perform calculations required to present all data in consistent units. If you would like to review these formulas, you need to download the data in spreadsheet format. To use the spreadsheets, you must use Microsoft Excel or another program that can read Excel 97 format files.

3. Emissions and Feedrate Data Summary Sheet

This sheet aggregates key emissions and feedrate information from individual source files. The sheet includes information on the source's air pollution control system, system design, types of hazardous waste and auxiliary fuel used, heat input capacity, stack gas emission concentrations of individual hazardous air pollutants, metals, and chlorine feedrates, and stack gas conditions.

4. Facility Description Summary Sheet

This sheet aggregates descriptive information for sources. The sheet includes the facility name and location, identification number, system design, air pollution control system, types of hazardous waste and auxiliary fuel used, and heat input capacity.

VI. What Data Handling Decisions Did EPA Make and What Are the Data Gaps?

In this section, we describe the data handling protocol used during development of the data base. We also identify additional data that we want and request that commenters submit such information as available.

1. Excluding Data From Sources No Longer Burning Hazardous Waste

The data base does not include information from sources no longer burning hazardous waste. If, during our data collection effort, we learned that a source had stopped burning hazardous waste and is undergoing, or has indicated to regulatory officials its plan to begin, RCRA closure procedures, then we did not obtain a copy of that source's test report(s). Although such data may or may not indicate the capabilities of control equipment in general, we have concluded that the data collected from currently operating combustors represent the source categories and is adequate to develop future emission standards under Section 112(d).

2. Excluding Data From Previous Compliance Testing

As mentioned earlier, we collected only the most recent testing information for a source because these data best represent current design and operation. In nearly all instances, the dates of the test reports collected were either 1998 or 1999. If a more recent RCRA compliance test report is available (i.e., more recent than the test report entered into our current data base), we encourage owners and operators to submit a copy of this more recent report as a comment to this notice. We request that commenters not submit data from testing conducted prior to the date of the test report in the data base, nor do we intend to use these older data.

3. The Format of the Feed Constituent Data

The data base contains concentrations of various chemicals in the feed to the boiler or furnace during a given test condition. The units of measurement used to report feed stream concentrations are not uniform across all sources. For example, feed chemicals may be reported as “grams per hour” in one test report, and “parts per million by weight” in another. To make the feed data consistent across all sources, we converted all feedstream concentrations to a common unit called the “maximum theoretical emissions concentration” or MTEC. The MTEC is calculated by dividing the constituent feedrate by the gas flow rate. The MTEC is expressed in the units of the associated emission standard.

4. Missing Source Description Information

Some test reports omitted source description information. For example, many of the boiler source descriptions are incomplete. A report might simply say the source is a boiler, but not whether it is a watertube or firetube boiler. In other cases, we were unable to determine what emission control equipment, if any, is installed on the source. We request that owners and operators provide any such missing source description information as a comment to this notice.

We also request additional information regarding the heat recovery systems used at many HAFs. In a few cases, the test report was not clear whether the HAF has a waste heat boiler (i.e., a boiler that is not integrally designed with the combustion chamber), whether the HAF has a boiler that is integrally designed with the combustion chamber, or whether the HAF has no energy recovery features. This information is useful in evaluating whether design and operating features can affect emissions of hazardous air pollutants and control strategies.

We also request process information for HAFs with waste heat boilers. We would like information on the flue gas temperature profile across the waste heat boiler, or at a minimum, the entrance and exit flue gas temperatures, and the temperature of the inlet water and exit steam (or heated water) across the tubes to accurately evaluate these systems. We ask owners and operators of HAFs with waste heat boilers to provide this information, if it exists, regarding the operation of the waste heat boiler during each test condition.

Some test reports for boilers list “HCl Absorbers” as an emissions control device. However, we understand that HCl absorbers are generally used by HAFs to produce HCl. To properly classify these devices, we request clarification as to whether these sources use the HCl absorber to produce HCl product, or whether the absorber is used as a wet scrubber.

5. Submitting Additional Emissions Data and Corrections to the Data Base

As stated earlier, we encourage submittal of more recent test data than now appear in our data base. If the data are generated during a CoC, Trial Burn, or Risk Burn test that must be submitted to a regulatory authority, we will infer that the QA/QC of your data is satisfactory. In this case, please submit the pages from the test report that document the missing or incorrect results and the cover page of the test report as reference. If the results come from other tests, you should send us the complete test report, including the QA/QC procedures followed.

In addition, we request that you submit the feed constituent information (i.e., the concentration or mass flow rate of metals, chlorine, and when applicable, organic chemicals) and the process information (i.e., how the combustion source and emissions control devices were operating) observed at the time of the test. Both the feed constituent and process conditions impact the resulting emissions and, more importantly, help us to understand the circumstances surrounding a particular test outcome.

Dated: June 16, 2000.
Elizabeth A. Cotsworth,
Director, Office of Solid Waste.

Note: the following appendix will not appear in the CFR.

Appendix

Data Request Information for Small Quantity Burners

1. EPA Facility ID No. (i.e., TXD012345678).

2. Company, Operator, and Facility Name.

3. Facility Location (City, State).

4. Name of Combustor Unit Used by Facility (e.g., Boiler No. 1).

5. Combustor Type and Characteristics including combustion device and design, manufacturer, installation date, size, fuel input capacity, and steam generating characteristics.

6. Air Pollution Control System and Characteristics including device design and operating characteristics.

7. Hazardous Waste Characteristics including types, physical properties (viscosity, form), heating value, and the concentrations of chlorine, arsenic, beryllium, cadmium, chromium, cobalt, lead, mercury, nickel, and selenium

8. Other Fuels Burned (e.g., natural gas, fuel oil, etc.).

9. Hazardous Waste and Other Fuel Feedrates (e.g., lb/yr for waste streams and fuel oils, ft3/yr for natural gas, etc.).

10. Stack Characteristics including stack height, diameter, and stack gas velocity and temperature.

11. Stack Gas Emissions Testing Results including:

• Stack gas emissions rates of particulate matter

• HCl

• Cl2

• Metals

• CO

• HC

• Information on stack gas flow rate

• Temperature

• Sootblowing (and whether and how PM and metals emissions data have been adjusted to account for soot blowing)

• Oxygen level

• Description of purpose of testing

• Test operating conditions

• Quality assurance/quality control procedures.

[FR Doc. 00-16073 Filed 6-26-00; 8:45 am]

BILLING CODE 6560-50-P